DEPARTMENT OF ENERGY

Federal Energy Regulatory Commission

[Docket No. CP13-179-000]

Southern Star Central Gas Pipeline, Inc.; Notice of Request Under Blanket Authorization

Take notice that on April 16, 2013, Southern Star Central Gas Pipeline, Inc. (Southern Star), 4700 Highway 56, Owensboro, Kentucky, filed in Docket No. CP13-179-000, a prior notice request pursuant to sections 157.205 and 157.216(b) of the Commission's regulations under the Natural Gas Act (NGA), seeking authorization to abandon a portion of compression within its existing Tonganoxie Compressor Station located in Leavenworth County, Kansas, all as more fully set forth in the application. This filing is accessible on-line at http://www.ferc.gov, using the “eLibrary” link and is also available for review in the Commission's Public Reference Room in Washington, DC. There is an “eSubscription” link on the Web site that enables subscribers to receive email notification when a document is added to the subscribed docket(s). For assistance with any FERC Online service, please email FERCOnlineSupport@ferc.gov, or call (866) 208-3676 (toll free). For TTY, call (202) 502-8659.

Specifically, Southern Star proposes to abandon in place four compressor units (Units 1 through 4), each rated at 440 horsepower, at its Tonganoxie Compressor Station. These units, installed in 1949, were used in routing natural gas from Southern Star's Ottawa Compressor Station and McLouth Gas Storage field to system deliveries in the St. Joe, Atchison, Fall City, and Tonganoxie-Fairfax areas. Southern Star has deemed the utilization of these units to be unnecessary in serving peak firm service, and the abandonment will save on maintenance costs and avoid the need for future capital cost.

Any questions regarding the applications should be directed to David N. Roberts, Staff Analyst, Regulatory Compliance, Southern Star Central Gas Pipeline, Inc., 4700 Highway 56, Owensboro, KY 42301, or call (270) 852-4654.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with he Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link. Persons unable to file electronically should submit an original and five copies of the protest or intervention to the Federal Energy Regulatory Commission, 888 First Street NE., Washington, DC 20426.

Dated: April 23, 2013.
Kimberly D. Bose,
Secretary.

[FR Doc. 2013-10134 Filed 4-29-13; 8:45 am]

BILLING CODE 6717-01-P